DEPARTMENT OF HEALTH AND HUMAN SERVICES

Agency for Healthcare Research and Quality; Notice of Meetings

In accordance with section 10(d) of the Federal Advisory Committee Act as amended (5 U.S.C., Appendix 2), the Agency for Healthcare Research and Quality (AHRQ) announces meetings of scientific peer review groups. The subcommittees listed below are part of the Agency's Health Services Research Initial Review Group Committee.

The subcommittee meetings will be closed to the public in accordance with the Federal Advisory Committee Act, section 10(d) of 5 U.S.C., Appendix 2 and 5 U.S.C. 552b(c)(6). Grant applications are to be reviewed and discussed at these meetings. These discussions are likely to involve information concerning individuals associated with the applications, including assessments of their personal qualifications to conduct their proposed projects. This information is exempt from mandatory disclosure under the above-cited statutes.

1. Name of Subcommittee: Health Care Quality and Effectiveness Research

Date: February 24, 2009 (Open from 9 a.m. to 9:15 a.m. on February 24 and closed for remainder of the meeting).

Place: Marriott RIO, Conference Room TBD, 9751 Washingtonian Blvd., Gaithersburg, MD 20878.

2. Name of Subcommittee: Health Care Technology and Decision Sciences

Date: March 4, 2009 (Open from 8 a.m. to 8:15 a.m. on March 4 and closed for remainder of the meeting).

Place: Marriott RIO, Conference Room TBD, 9751 Washingtonian Blvd., Gaithersburg, MD 20878.

3. Name of Subcommittee: Health Systems Research

Date: March 5, 2009 (Open from 8 a.m. to 8:15 a.m. on March 5 and closed for remainder of the meeting).

Place: Marriott RIO, Conference Room TBD, 9751 Washingtonian Blvd., Rockville, Maryland 20878.

4. Name of Subcommittee: Health Care Research Training

Date: March 5-6, 2009 (Open from 9 a.m. to 9:15 a.m. on March 5 and closed for remainder of the meeting).

Place: Marriott RIO, Conference Room TBD, 9751 Washingtonian Blvd., Rockville, Maryland 20878.

Contact Person: Anyone wishing to obtain a roster of members, agenda, or minutes of the nonconfidential portions of the meetings should contact Mrs. Bonnie Campbell, Committee Management Officer, Office of Extramural Research, Education and Priority Populations, AHRQ, 540 Gaither Road, Suite 2000, Rockville, Maryland 20850, Telephone (301) 427-1554.

Agenda items for these meetings are subject to change as priorities dictate.

Dated: January 28, 2009.
Carolyn M. Clancy,
Director.

[FR Doc. E9-2381 Filed 2-4-09; 8:45 am]

BILLING CODE 4160-90-M